DEPARTMENT OF COMMERCE

Bureau of the Census

[Docket Number 040408110-4110-01]

RIN 0607-AA42

Establishment of the 2010 Census Redistricting Data Program

AGENCY: Bureau of the Census, Department of Commerce.

ACTION: Notice of program.

SUMMARY: This notice announces and seeks comments on the establishment of the 2010 Census Redistricting Data Program. Required by law, the program provides States the opportunity to specify the small geographic areas that they wish to receive 2010 decennial census population totals for the purpose of reapportionment and redistricting.

DATES: Comments on this notice must be received by July 12, 2004. The deadline for States to notify the Bureau of the Census (Census Bureau) that they wish to participate in Phase 1, the State Legislative District Project, is August 1, 2005.

ADDRESSES: Please direct all written comments on this notice to the Director, U.S. Census Bureau, Room 2049, Federal Building 3, Washington, DC 20233.

FOR FURTHER INFORMATION CONTACT: Catherine C. McCully, Chief of the Census Redistricting Data Office, U.S. Census Bureau, Room 3631, Federal Building 3, Washington, DC 20233, telephone (301) 763-4039.

SUPPLEMENTARY INFORMATION: Under the provisions of Title 13, Section 141(c), of the United States Code (U.S.C.), the Secretary of Commerce (Secretary) is required to provide the “officers or public bodies having initial responsibility for the legislative apportionment or districting of each state * * *” with the opportunity to specify geographic areas (e.g., voting districts) for which they wish to receive decennial census population counts for the purpose of reapportionment or redistricting.

By April 1 of the year following the decennial census, the Secretary is required to furnish the State officials or their designees with population counts for counties, cities, census blocks, and State-specified congressional districts, legislative districts, and voting districts that meet Census Bureau technical criteria.

In accordance with the provisions of 13 U.S.C. 141(c), the Director of the Census Bureau, on behalf of the Secretary of Commerce, announces the establishment of the 2010 Census Redistricting Data Program (Program) and commences Phase 1, the State Legislative District Project, of the Program. An invitation to the officers or public bodies having initial responsibility for legislative reapportionment and redistricting will be issued this fall through the Census Redistricting Data Office. The deadline for States to notify the Census Bureau that they wish to participate in Phase 1, the State Legislative District Project, is August 1, 2005.

As seen in the 1990 and 2000 censuses, the 2010 Census Redistricting Data Program will be partitioned into several phases. State participation in Phase 1 and 2 of the Census 2010 Redistricting Data Program under 13 U.S.C. 141 is voluntary.

Phase 1: State Legislative District Project (SLDP)

Beginning in the Fall of 2004, the Census Bureau will correspond with the legislative leadership of each state to establish a Census 2010 Redistricting Data Program liaison. The Census Bureau will also formally announce, through a subsequent Federal Register notice, the commencement of Phase 1. Beginning in the winter of 2005, States that choose to participate in Phase 1 will begin to receive guidelines for providing State legislative districts for their States. This phase will include a verification step and will end with tabulations based on Census 2000 data. Ongoing changes to Congressional district plans will be collected, and new tabulations will be developed, as needed. Boundaries of legislative and Congressional districts will be 2010 tabulation census block boundaries for those participating States. Participation in Phase 1 is not a prerequisite for participation in Phase 2 or 3 of the Census 2010 Redistricting Data Program.

Phase 2: Voting District/Block Boundary Suggestion Project

Beginning in the fall of 2007, States that choose to participate in Phase 2 will receive on a flow basis, geographic products (maps and/or computer files) for their use in submitting to the Census Bureau the voting districts and suggestions for the Census 2010 tabulation census block inventory. A verification phase is offered to those participating States. If States choose not to participate in Phase 2, the Census Bureau cannot ensure that the decennial census 2010 tabulation geography will support the redistricting needs of each State. In mid-2007 the Census Bureau will announce the technical and other criteria for participating in Phase 2, the Voting District/Block Boundary Suggestion Project.

Phase 3: Delivery of the Decennial Census 2010 Redistricting Data

By April 1, 2011, the Director of the Census Bureau will, in accordance with 13 U.S.C. 141(c), furnish the Governor and State legislative leaders, both the majority and minority, with 2010 census population counts for standard census tabulation areas (e.g., State, Congressional district, American Indian area, county, city, town, census tract, census block group, and census block) regardless of a State's participation in Phase 1 or 2. The Director of the Census Bureau also will provide 2010 population counts for those States participating in Phase 1 and/or 2, for State legislative districts. For those States participating in Phase 2, the Director of the Census Bureau will provide 2010 census population counts for standard census tabulation areas and voting districts no later than April 1, 2011.

Phase 4: Collection of Post-Census 2010 Redistricting Plans

Beginning in 2011, the Census Bureau will obtain from each State the newly drawn legislative and Congressional district plans and prepare the appropriate data sets based on the new districts.

Phase 5: Evaluation of Census 2010 Redistricting Data Program and Recommendations for Census 2020 Redistricting Data Program

As the final phase of the Census 2010 Redistricting Data Program, the Census Bureau will work with the States to conduct a thorough review of the program. The intent of this review, and the final report that will be produced as a result, is to provide guidance to the Secretary of Commerce and the Census Bureau Director in planning for the Census 2020 Redistricting Data Program. Please address questions concerning any aspect of the Census 2010 Redistricting Data Program to the person identified in the contact section of this notice.

Executive Order 12866

This rule has been determined to be significant under Executive Order 12866.

Dated: May 7, 2004.
Charles Louis Kincannon,
Director, Bureau of the Census.

[FR Doc. 04-10844 Filed 5-12-04; 8:45 am]

BILLING CODE 3510-07-P